DEPARTMENT OF THE INTERIOR

Office of the Secretary

Invasive Species Advisory Committee

AGENCY: Office of the Secretary, Interior.

ACTION: Notice of public meetings of the Invasive Species Advisory Committee.

SUMMARY: Pursuant to the provisions of the Federal Advisory Committee Act, notice is hereby given of meetings of the Invasive Species Advisory Committee (ISAC). Comprised of 29 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on December 6-8, 2011 in Washington, DC and will focus primarily invasive species as it relates to commerce. The purpose of the meeting is to convene the full ISAC and consider strategies and methodologies for implementing performance elements outlined in the 2008-2012 Invasive Species National Management Plan. The meeting is open to the public. An orientation session will be held on Monday, December 5, 2011, for the six new ISAC members appointed by Secretary Ken Salazar on September 16, 2011. There will be no ISAC business conducted during the orientation session, which is closed to the public.

DATES: ISAC New Member Orientation (CLOSED): Monday, December 5, 2011; 9 a.m.-1:45 p.m. Meeting of the Invasive Species Advisory Committee (OPEN): Tuesday, December 6, 2011 through Thursday, December 8, 2011. The meeting will be held 8 a.m. to 5 p.m. on Tuesday, December 6, 2011 and Wednesday, December 7, 2011. On Thursday, December 8, 2011, the meeting will begin at 8 a.m., and adjourn at 12 noon.

ADDRESSES: The new member orientation will be held at the NISC offices at 1201 Eye Street NW., Washington, DC 20005. The ISAC meeting will be held at the U.S. Department of Commerce (Herbert C. Hoover Building), 1401 Constitution Avenue NW., Washington, DC 20230. The general session will be held in Room 4830. Note: All meeting participants and interested members of the public must be cleared through building security prior to being escorted to the meeting.

FOR FURTHER INFORMATION CONTACT: Kelsey Brantley, National Invasive Species Council Program Specialist and ISAC Coordinator, (202) 513-7243; Fax: (202) 371-1751,

Dated: October 31, 2011.
Lori Williams,
Executive Director, National Invasive Species Council.

[FR Doc. 2011-28743 Filed 11-4-11; 8:45 am]

BILLING CODE 4310-RK-P